DEPARTMENT OF THE INTERIOR

Bureau of Land Management

[MT-060-01-1020-PG]

Notice of Public Meeting, Central Montana Resource Advisory Council

AGENCY: Bureau of Land Management, Interior.

ACTION: Notice of public meeting.

SUMMARY: In accordance with the Federal land Policy and Management Act and the Federal Advisory Committee Act of 1972, the U.S. Department of the Interior, Bureau of Land Management Central Montana Resource Advisory Council (RAC) will meet as indicated below.

DATES: The meeting will be held June 17-18, 2003, at the Stage Stop Inn, in Choteau, Montana. On June 17th, the RAC will tour the Rocky Mountain Front. The June 18th meeting will begin at 8 a.m. with a 30-minute public comment period and will adjourn around 5 p.m.

SUPPLEMENTARY INFORMATION: This 15-member advisory council advises the Secretary of the Interior, through the Bureau of Land Management, on a variety of planning and management issues associated with public land management. During these meetings the council plans to discuss:

Potential Energy Development on the Rocky Mountain Front

The Upper Missouri River Breaks National Monument Resource Management Plan

The Lewis and Clark Bicentennial

BLM Budget Matters

The National RAC Meeting

The RAC's Missouri River Visitor Use Sub-Group

Vacant Outfitter Permits

Field Manager Updates

Overview of the Fire Program, and

Plans for the Next RAC Meeting

All meetings are open to the public. The public may present written comments to the council. Each formal council meeting will also have time allocated for public comments (as detailed above). Depending on the number of persons wishing to comment and time available, the time for individual comments may be limited.

FOR FURTHER INFORMATION CONTACT: David L. Mari, Lewistown Field Manager, Bureau of Land Management, PO Box 1160, Airport Road, Lewistown, MT 59457, 406/538-7461.

Dated: April 23, 2003.
David L. Mari,
Lewistown Field Manager.

[FR Doc. 03-10639 Filed 4-29-03; 8:45 am]

BILLING CODE 4310-$$-P